FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Aduanair Cargo & Courier Corp. (NVO & OFF), 5900 NW 99th Avenue, Suite 6, Doral, FL 33178, Officers: Anamar Del Castillo, Vice President (QI), Jesus Cachazo, President, Application Type: New NVO & OFF License

Albacor Shipping (USA) Inc. dba Pearl Line (NVO & OFF), 180 Franklin Turnpike, Mahwah, NJ 07430, Officers: Robert C. Ryan, Vice President (QI), Raymond M. Greer, President, Application Type: QI Change

Crescent Air Freight, Ltd. (NVO & OFF), 145 Hook Creek Blvd., Suite C2SC, Valley Stream, NY 11581, Officers: Fauad Shariff, President (QI), Sameen Shariff, Secretary, Application Type: License Transfer to Crescent Overseas Logistics, Inc.

Empire Consolidators, Inc. (NVO & OFF), 7511 193rd Street, Fresh Meadows, NY 11366, Officer: Hsiao-Ling Chen, President (QI), Application Type: QI Change

Matus International, Inc. (NVO & OFF), 411 N. Oak Street, Inglewood, CA 90302, Officers: Anthony S. Pineda, Treasurer (QI), Allan J. Matus, President, Application Type: New NVO & OFF License

Perimeter International dba Perimeter Logistics (NVO & OFF), 2700 Story Road West, Suite 150, Irving, TX 75038, Officers: Dustin Eash, Secretary (QI), Merry L. Lamothe, President, Application Type: New NVO & OFF License

Safeway Shipping and Clearing Services, Inc. (NVO), 3615 Willowbend Blvd., Suite 414, Houston, TX 77054, Officers: Ibraheem O. Iyiola, Vice President (QI), Abiola S. Iyiola, President, Application Type: New NVO License

Dated: April 19, 2013.
By the Commission.
Karen V. Gregory,
Secretary.

[FR Doc. 2013-09725 Filed 4-23-13; 8:45 am]

BILLING CODE 6730-01-P